DEPARTMENT OF AGRICULTURE

Food and Nutrition Service

Agency Information Collection Activities: Turnip the Beet! High Quality Summer Meals Award Program

AGENCY: Food and Nutrition Service (FNS), USDA.

ACTION: Notice.

SUMMARY: In accordance with the Paperwork Reduction Act of 1995, this notice invites the general public and other public agencies to comment on this proposed information collection. This collection is a new collection for recognizing program sponsors' nutrition efforts in the Summer Food Service Program (SFSP) or the National School Lunch Program (NSLP) Seamless Summer Option (SSO).

DATES: Written comments must be received on or before April 7, 2020.

ADDRESSES: Comments may be sent to: Andrea Farmer, Community Meals Branch, Policy and Program Development Division, Child Nutrition Programs, Food and Nutrition Service, U.S. Department of Agriculture, 1320 Braddock Place, Alexandria, VA 22314. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Andrea Farmer at 703-305-2590.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Turnip the Beet! High Quality Summer Meals Award Program.

OMB Number: 0584-NEW.

Expiration Date: To be determined.

Type of Request: New collection.

Abstract: The Summer Food Service Program (SFSP) and National School Lunch Program (NSLP) Seamless Summer Option (SSO) were established to ensure that children and teens continue to receive nutritious meals when school is not in session. Turnip the Beet is a voluntary award program to recognize participating program sponsors that work hard to offer high quality, nutritious meals during the summer months.

The purpose of this voluntary reconition program is to encourage Summer Meal Programs' sponsors to offer higher quality, nutritious meals that make an impact on children's healthy development. The program allows the Food and Nutrition Service (FNS) to more accurately assess the quality of meal service in order to determine whether the individual sponsor qualifies for recognition, and at what level.

The Turnip the Beet award is presented at three levels (bronze, silver and gold) to sponsors providing meals that are appetizing, appealing, and nutritious. The award is open to all program sponsors across the nation who are in good standing, including SFSP sponsors and NSLP/SSO sponsors. All nominated sponsors must be in compliance with SFSP or NSLP/SSO regulations, as applicable.

Sponsors may submit a self-nomination or be nominated by another party. The sponsor or other party must complete and submit a nomination packet, which includes the short Turnip the Beet Nomination Form and a one-month menu, to their Summer Meals State agency contact. Menus should provide sufficient detail to judge whether it meets award criteria; for example, a menu should describe whether fruits and vegetables are fresh, frozen, canned or dried, as well as identify whole grain-rich and local food items. Sponsors may choose to submit other supporting documents to further demonstrate the quality of their meals, such as news clips about the program, photos, testimonials, or invoices of local food purchases.

The nominations will be submitted to State agencies, which have the discretion to choose their submission due dates. The State agency contacts will ensure the sponsor: (1) Participated in SFSP or SSO in the award year; (2) is in good standing with no major findings or all corrective actions are complete and implemented; (3) was not found seriously deficient in the past two years, at the time of the application, and has never been terminated from the Summer Meal Programs; and (4) submitted an application that meets meal pattern requirements. The State agency can also provide an optional statement of support for the nominee.

All nominations must be forwarded by the State agency contact to their Regional Office at a set November date following the program year. FNS will notify the winners in writing early the following calendar year. Depending on the award level attained, sponsors will receive a certificate from FNS, will be featured on the USDA blog, or will be featured on the online Capacity Builder tool as a Turnip the Beet winner.

Affected Public: Sponsors (businesses); and State agencies (State governments).

Estimated Number of Respondents: For program year 2020, FNS expects nominations from 150 sponsors in 36 States, for a total of 186 respondents.

Estimated Number of Responses per Respondent: Sponsors will voluntarily complete one nomination packet for the program year. State agencies will review each nomination received from sponsors in their respective states one time; State agencies are expected to receive an average of 4.167 nominations each.

Estimated Total Annual Responses: FNS expects 150 nominations from sponsors, which will then be reviewed by State agencies. The total annual responses is 300.

Estimated Time per Response: The estimated time of response varies from 30 to 60 minutes per nomination, depending on respondent group. FNS estimates it will take each sponsor approximately 1 hour to complete the nomination form, compile other supplemental information, and submit the nomination packet to the State agency. FNS estimates it will take each reviewing State agency approximately 30 minutes to review each nomination packet and complete a one-page checklist to verify that the nominees are eligible for the award. The table below illustrates the burden on both sponsors and State agencies, with an average total estimated time of 1.21 hours.

Estimated Total Annual Burden on Respondents: 225 hours. See the table below for estimated total annual burden for each type of respondent.

Respondent | Estimated number of respondents | Responses annually per respondent | Total Annual responses | Estimated avg. number of hours per response | Estimated total hours
Reporting Burden
Program Sponsors (Businesses) | 150 | 1.00 | 150 | 1.00 | 150.00
State Agency Employees | 36 | 4.1666667 | 150 | 0.50 | 75.00
Total Reporting Burden | 186 |  | 300 |  | 225.00

Dated: January 24, 2020.
Pamilyn Miller,
Administrator, Food and Nutrition Service.

[FR Doc. 2020-02449 Filed 2-6-20; 8:45 am]

BILLING CODE 3410-30-P